MARINE MAMMAL COMMISSION

Meeting of Advisory Committee on Acoustic Impacts on Marine Mammals

AGENCY: Marine Mammal Commission.

ACTION: Notice of advisory committee meeting.

SUMMARY: The Marine Mammal Commission (Commission) will hold the third meeting of its Advisory Committee on Acoustic Impacts on Marine Mammals (Committee) 27-29 July 2004 in San Francisco, CA.

DATES: The Committee will meet Tuesday, July 27, 2004, from 9 a.m. to 5 p.m.; Wednesday, July 28, from 8:30 a.m. to 5 p.m.; and Thursday, July 29, from 8:30 a.m. to 5 p.m. This meeting is open to the public. These times and the agenda topics described below are subject to change. Please refer to the Commission's Web site (www.mmc.gov) for the most up-to-date meeting information. The Committee's fourth public meeting is scheduled for 30 November-2 December 2004 in New Orleans, LA. Further information on that meeting will be published in the Federal Register and posted on the Commission's Web site.

ADDRESSES: The July 27-29 meeting will be held at the Crowne Plaza Union Square, 480 Sutter Street, San Francisco, CA 94108, phone (415) 398-8900 or (888) 218-0808, fax (415) 989-8823, http://www.ichotelsgroup.com/h/d/cp/1/en/hd/sfous.

FOR FURTHER INFORMATION CONTACT: Erin Vos, Sound Project Manager, Marine Mammal Commission, 4340 East-West Hwy., Rm. 905, Bethesda, MD 20814, e-mail: evos@mmc.gov, tel.: (301) 504-0087, fax: (301) 504-0099; or visit the Commission's Web site at www.mmc.gov.

SUPPLEMENTARY INFORMATION: This meeting is to be held pursuant to the directive in the Omnibus Appropriations Act of 2003 (Pub. L. 108-7) that the Commission convene a conference or series of conferences to “share findings, survey acoustic threats' to marine mammals, and develop means of reducing those threats while maintaining the oceans as a global highway of international commerce.” The meeting agenda includes presentations and discussions related to: (1) The draft report from the Subcommittee on Synthesis of Current Knowledge, (2) marine mammal research and funding processes, (3) potential barriers to research that advances our knowledge about acoustic impacts on marine mammals, and (4) progress made by the Subcommittee on Management and Mitigation. The agenda also includes two public comment sessions. Guidelines for making public comments, background documents, and the meeting agenda, including the specific times of public comment periods, will be posted on the Commission's Web site prior to the meeting. Written comments may be submitted at the meeting.

Dated: July 9, 2004.
David Cottingham,
Executive Director.

[FR Doc. 04-15995 Filed 7-14-04; 8:45 am]

BILLING CODE 6820-31-M